DEPARTMENT OF HEALTH AND HUMAN SERVICES

National Institutes of Health

National Cancer Institute Amended; Notice of Meeting

Notice is hereby given of a change in the meeting of the National Cancer Institute Special Emphasis Panel, November 19, 2014, 12:00 p.m. to November 19, 2014, 6:00 p.m., Hyatt Regency Hotel, 1 Bethesda Metro Center, Bethesda, MD, 20814 which was published in the Federal Register on October 06, 2014, 79FR60173.

The meeting notice is being amended to change the meeting date from November 19, 2014 to December 10, 2014. The meeting is closed to the public.

Dated: October 30, 2014.
Melanie J. Gray,
Program Analyst, Office of Federal Advisory Committee Policy.

[FR Doc. 2014-26206 Filed 11-4-14; 8:45 am]

BILLING CODE 4140-01-P